DEPARTMENT OF AGRICULTURE

Rural Utilities Service

7 CFR Parts 1710, 1720, and 1785

[Docket No. RUS-ELECTRIC-21-0016

RIN 0572-AC49

Implementing Provisions of the Agriculture Improvement Act of 2018

AGENCY: Rural Utilities Service, USDA.

ACTION: Final rule, confirmation

SUMMARY: The Rural Utilities Service, a Rural Development agency of the United States Department of Agriculture (USDA), hereinafter referred to as “RUS” or “the Agency,” published in the Federal Register on December 6, 2022, a final rule with request for comments. The Agency received no substantiative comments, so this notice confirms the final rule as published.

DATES: As of February 21, 2023, the December 6, 2022, effective date for the final rule published December 6, 2022, at 87 FR 74493, is confirmed.

FOR FURTHER INFORMATION CONTACT: Alexis Solano, Rural Utilities Service Electric Program, Rural Development, U.S. Department of Agriculture, 1400 Independence Avenue SW, STOP 1568, Room 5165-S, Washington, DC 20250-3201; telephone: (202) 690-3407; email: alexis.solano@usda.gov.

SUPPLEMENTARY INFORMATION: RUS published a final rule with request for comments in the Federal Register on December 6, 2022, at 87 FR 74493. The final rule implemented sections 6501, 6503, 6505 and 6507 of the Agriculture Improvement Act of 2018 (Pub. L. 115-34) (Farm Bill).

The Agency received no substantiative comments during the public comment period on the final rule and therefore confirms the rule without change.

Andrew Berke,
Administrator, Rural Utilities Service.

[FR Doc. 2023-03492 Filed 2-17-23; 8:45 am]

BILLING CODE 3410-15-P